DEPARTMENT OF THE INTERIOR

Bureau of Land Management

[LLORS00100 63500000 PH0000 LXSS030H0000; HAG 07-0158]

Salem District Resource Advisory Committee; Meeting

AGENCY: Bureau of Land Management .

ACTION: Pursuant to the Federal Advisory Committee Act, the Department of the Interior, Bureau of Land Management (BLM) announces the following advisory committee meeting:

Name: Salem District Resource Advisory Committee.

Time and Date: 8:30 a.m.to 4 p.m. April 15 and 16, 2009 and April 22, and 23, 2009 if needed.

Place: Salem District Office, 1717 Fabry Road SE, Salem, OR 97306.

Status: Open to the public.

Matters To Be Considered: The Resource Advisory Committee will consider proposed projects for Title II funding under Section 205 of the Secure Rural Schools and Community Self Determination Act of 2000 (Pub. L. 110-343) that focus on maintaining or restoring water quality, land health, forest ecosystems, and infrastructure.

For More Information Contact: Program information, meeting records, and a roster of committee members may be obtained from Randy Gould, Salem District Designated Official, 1717 Fabry Road, Salem, OR 97306. 503-375-5682. The meeting agenda will be posted at http://www.blm.gov/or/districts/salem/rac when available.

Should you require reasonable accommodation, please contact the BLM Salem District 503-375-5682 as soon as possible.

Dated: February 25, 2009.
Dan Hollenkamp,
Acting Field Manager.

[FR Doc. E9-6745 Filed 3-25-09; 8:45 am]

BILLING CODE